ENVIRONMENTAL PROTECTION AGENCY

[FRL-9489-3]

Public Water System Supervision Program Revision for the State of New Mexico

AGENCY: Environmental Protection Agency (EPA).

ACTION: Notice of tentative approval.

SUMMARY: Notice is hereby given that the State of New Mexico is revising its approved Public Water System Supervision Program. New Mexico has adopted the Lead and Copper Rule Short Term Revisions. The purpose of this rule is to improve control and reduce the risk of lead and copper in drinking water. EPA has determined that this rule revision submitted by New Mexico is no less stringent than the corresponding federal regulation. Therefore, EPA intends to approve the program revisions.

DATES: All interested parties may request a public hearing. A request for a public hearing must be submitted by December 9, 2011 to the Regional Administrator at the EPA Region 6 address shown below. Frivolous or insubstantial requests for a hearing may be denied by the Regional Administrator. However, if a substantial request for a public hearing is made by December 9, 2011, a public hearing will be held. If no timely and appropriate request for a hearing is received and the Regional Administrator does not elect to hold a hearing on his own motion, this determination shall become final and effective on December 9, 2011. Any request for a public hearing shall include the following information: The name, address, and telephone number of the individual, organization, or other entity requesting a hearing; a brief statement of the requesting person's interest in the Regional Administrator's determination and a brief statement of the information that the requesting person intends to submit at such hearing; and the signature of the individual making the request, or, if the request is made on behalf of an organization or other entity, the signature of a responsible official of the organization or other entity.

ADDRESSES: All documents relating to this determination are available for inspection between the hours of 8 a.m. and 4:30 p.m., Monday through Friday, at the following offices: New Mexico Environment Department, Drinking Water Bureau, 525 Camino De Los Marquez, Suite 4, Santa Fe, New Mexico, 87505 and the United States Environmental Protection Agency, Region 6, Drinking Water Section (6WQ-SD), 1445 Ross Avenue, Suite 1200, Dallas, Texas 75202.

FOR FURTHER INFORMATION CONTACT: Bill Hurlbut, EPA Region 6, Drinking Water Section at the Dallas address given above or at telephone (214)-665-8305 or by email (hurlbut.bill@epa.gov).

Authority: Section 1413 of the Safe Drinking Water Act, as amended (1996), and 40 CFR Part 142 of the National Primary Drinking Water Regulations.

Dated: October 12, 2011.
Al Armendariz,
Regional Administrator, Region 6.

[FR Doc. 2011-29063 Filed 11-8-11; 8:45 am]

BILLING CODE 6560-50-P